DEPARTMENT OF TRANSPORTATION

Surface Transportation Board

[STB Finance Docket No. 35283]

The Indiana Rail Road Company—Trackage Rights Exemption—CSX Transportation, Inc.

Pursuant to a written trackage rights agreement (Agreement),¹ CSX Transportation, Inc. (CSXT), has agreed to grant non-exclusive overhead trackage rights to The Indiana Rail Road Company (INRD) over CSXT's: (1) Indianapolis Belt Subdivision between the connection of INRD with CSXT at CSXT MP QIB 5.3 and the Hoosier Heritage Railroad in the vicinity of CSXT MP QIB 13.5, a distance of approximately 8.2 miles; (2) Hamilton Connection between CSXT MP QIB 9.0, approximately, and the point of INRD's State Street Yard leased property in the vicinity of CSXT's Indianapolis Subdivision MP BD 122.0, a distance of approximately 0.5 miles; (3) Hamilton and Prospect Wye Tracks in the vicinity of CSXT MP QIB 9.0 for the purpose of entry into and exit from CSXT's Hawthorne Yard; (4) Indianapolis Subdivision between Hamilton Connection at CSXT MP BD 122.0 approximately, and CP IU at CSXT MP BD 126.5, a distance of approximately 4.5 miles; (5) Indianapolis Terminal Subdivision between CP IU at CSXT MP QI 283.7 and CP AN at the west end of CSXT's Avon Yard at CSXT MP QS 12.5, a distance of approximately 12.7 miles; (6) Louisville Secondary Subdivision between CSXT MP QSL 4.0 at the connection with Louisville & Indiana Railroad Co. (LIRC) and CSXT MP QSL 0.0, a distance of 4 miles, including use of wye tracks in the northeast and southeast quadrants at CP Dale, and wye tracks in the southeast and southwest quadrants at CP IU; (7) Crawfordsville Branch between CP IJ at CSXT MP QSC 0.7 and the connection to the Indianapolis Terminal Subdivision at CP South Hunt at CSXT MP QSC 8.6, a distance of approximately 7.9 miles; and (8) Shelbyville Secondary Subdivision between the connection with the Indianapolis Belt Subdivision at CSXT MP QSS 106.9 and CP IU at CSXT MP QSS 109.3, a distance of approximately 2.4 miles.

¹ As required by 49 CFR 1180.6(a)(7)(ii), INRD states that it will submit a copy of the executed agreement within 10 days of the date the agreement is executed.

The transaction is scheduled to be consummated on September 18, 2009, or the effective date of the exemption (30 days after the amendment to the notice of exemption was filed), whichever is later. The purpose of the trackage rights agreement is (i) to grant INRD trackage rights which will permit INRD to deliver and retrieve carload haulage traffic to and from LIRC at CSXT's Avon Yard,² (ii) to grant INRD trackage rights which will permit it to deliver and retrieve unit train haulage traffic directly to and from LIRC, (iii) to confirm INRD's rights to serve customers in State Street Yard where it operates a plastics transloading facility on track leased from CSXT, and (iv) to revise the commercial terms of an existing trackage rights agreement.³ According to INRD, the trackage rights granted in the Agreement will permit several routings for INRD's traffic moving to and from Avon Yard for delivery or retrieval of haulage traffic with LIRC, providing CSXT's dispatchers with the greatest flexibility in routing INRD traffic to and from Avon Yard through the congested Indianapolis Terminal area.

² INRD notes that it already interchanges traffic with CSXT at Avon Yard pursuant to an interchange agreement between the parties.

³ See The Indiana Rail Road Company—Trackage Rights Exemption—Consolidated Rail Corporation, STB Finance Docket No. 33380 (STB served Apr. 30, 1997).

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed at least 7 days before the exemption becomes effective.

Pursuant to the Consolidated Appropriations Act, 2008, Public Law 110-161, section 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35283, must be filed with the Surface Transportation Board, 395 E Street, SW., Washington, DC 20423-0001. In addition, a copy of each pleading must be served on John Broadley, John H. Broadley & Associates, P.C., 1054 31st Street, NW., Suite 200, Washington, DC 20007.

Board decisions and notices are available on our Web site at http://www.stb.dot.gov.

Decided: August 27, 2009.
By the Board, Joseph H. Dettmar, Acting Director, Office of Proceedings.
Jeffrey Herzig,
Clearance Clerk.

[FR Doc. E9-21048 Filed 9-2-09; 8:45 am]

BILLING CODE 4915-01-P